DEPARTMENT OF DEFENSE

Department of the Army; Corps of Engineers

Intent To Prepare a Draft Supplemental Environmental Impact Statement To Evaluate Construction of Authorized Improvements to the Federal Pascagoula Harbor Navigation Project in Jackson County, MS

AGENCY: Department of the Army, U.S. Army Corps of Engineers, DoD.

ACTION: Notice of availability.

SUMMARY: This notice of availability announces the public release of the Draft Supplemental Environmental Impact Statement (DSEIS) to evaluate construction of authorized improvements to the Federal Pascagoula Harbor Navigation Project in Jackson County, MS. The Mobile District, U.S. Army Corps of Engineers (Corps) published in the Federal Register, June 14, 2006, (71 FR 34320) a Notice of Intent to Prepare a DSEIS to address the potential impacts associated with construction of authorized improvements to the Federal Pascagoula Harbor Navigation Project in Jackson County, MS. The DSIES was used as a basis to ensure compliance with the National Environmental Policy Act (NEPA) and for evaluating the following two alternative plans: “No Action” and deepening the federally authorized project from 38 feet to 42 feet deep in the Upper Pascagoula channel, deepening the Horn Island Impoundment Basin from 44 feet to 56 feet, and widening the Gulf Entrance Channel from 450 feet to 550 feet wide. Pascagoula Harbor is authorized to (a) An entrance channel 44 deep and 550 feet wide from the Gulf of Mexico to Horn Island Pass, a channel 44 feet deep and 600 feet wide through Horn Island Pass, including a sediment trap situated on the east side of the channel 1,500 feet long, 56 feet deep, and 175 feet wide; (b) A channel 42 feet deep and 350 feet wide in Mississippi Sound and the Pascagoula River to the railroad bridge at Pascagoula, including a turning basin 2,000 feet long and 950 feet wide (including the channel area) on the west side of the river below the railroad bridge; (c) A channel 42 feet deep throughout and 350 feet wide from the ship channel in Mississippi Sound to the 1,150-foot turning basin at the mouth of Bayou Casotte, then 350 feet wide for about one mile to the northern turning basin, 900 feet wide and 1,750 feet long; (d) A channel 22 feet deep and 150 feet wide up Pascagoula River from the railroad bridge to the mouth of Escatawpa River (Dog River), thence up the Escatawpa River to the Highway 613 Bridge; (e) A channel 12 feet deep and 125 feet wide from the Highway 613 Bridge, via Robertson and Bounds Lakes to mile 6.0 on the Escatawpa River; and (f) A channel 12 feet deep by 80 feet extending from deep water in the Pascagoula River to a turning basin in Krebs Lake a distance of about 1,500 feet, then along the south bank of the lake a channel 10 feet deep and 60 feet wide, terminating at a second turning basin, a distance of 2,700 feet from the first. The tentatively recommended alternative includes construction of the authorized project dimensions.

DATES: The public comment period for the DSEIS will extend through August 27, 2007.

ADDRESSES: To receive a copy of the DSEIS, or to submit comments, contact U.S. Army of Engineers, Mobile District, Coastal Environment Team, P.O. Box 2288, Mobile, AL 36628-0001. A copy of the full document may also be viewed in the Mobile Public Library (Main Branch) or in the Mobile District.

FOR FURTHER INFORMATION CONTACT: Questions about the proposed action and the DSEIS should be addressed to Ms. Jennifer L. Jacobson, Chief, Coastal Environment Team, phone (251) 690-2724, Mobile District, U.S. Army Corps of Engineers, P.O. Box 2288, Mobile, AL 36628 or e-mail address: jennifer.l.jacobson@sam.usace.army.mil.

SUPPLEMENTARY INFORMATION: Public comments can be submitted through a variety of methods. Written comments may be submitted to the Corps by mail, facsimile, or electronic methods. Additional comments (written or oral) may be presented at the public hearing on August 7, 2007 at the Mississippi Gulf Coast Community College at the Jackson County Campus, Administration Building, 2300 Highway 90, Gautier, MS. Additional information on the public hearing will be mailed in a public notice to the agencies and public and announced in news releases.

Dated: June 29, 2007.
Curtis M. Flakes,
Chief, Planning and Environmental Division.

[FR Doc. 07-3393 Filed 7-11-07; 8:45 am]

BILLING CODE 3710-CR-M